ENVIRONMENTAL PROTECTION AGENCY

[FRL-7463-5]

Notice of Approval of Extension of Prevention of Significant Air Quality Deterioration (PSD) and New Source Review (NSR) Permit to Muht\Hei, Inc. (NSR 4-4-10, SD 92-02)

AGENCY: Environmental Protection Agency (EPA).

ACTION: Notice.

SUMMARY: Notice is hereby given that on January 14, 2003 the Environmental Protection Agency issued an extension of the prevention of significant deterioration/new source review (PSD/NSR) permit to the applicant named above. EPA's Extension of the PSD/NSR permit grants approval to Muht-Hei, Inc. to construct and operate a solid waste landfill on the tribal lands of the Campo Band of Mission Indians if construction is begun within 18 months.

FOR FURTHER INFORMATION CONTACT: Copies of the permit are available for public inspection upon request; please address the request to: Emmanuelle Rapicavoli (AIR-3), U.S. Environmental Protection Agency, Region 9, 75 Hawthorne Street, San Francisco, CA 94105, (415) 972—3969.

ENVIRONMENTAL APPEALS BOARD (EAB) APPEAL: An appeal to the Administrator was sent by Mrs. Lory Rimoldi to the EAB for review of this permit. On January 14, 2003 the EAB dismissed Mrs. Rimolldi's petition for review. The EAB denied the petition for review because (1) Mrs. Rimoldi failed to indicate why Region IX's response to her concerns was erroneous or otherwise warranted review, (2) the speculative concerns regarding the general enforcement of a validly issued permit raised in her petition are outside the scope of the Board's review authority, and (3) the petition did not contain sufficient specificity as to why Region IX's decision was erroneous. The final extension became effective on January 14, 2003 and will expire 18 months from that date on July 13, 2004.

DATES: The issuance of a PSD/NSR permit is reviewable under Section 307(b)(1) of the Clean Air Act and 40 CFR 124.19(f)(1) in the Ninth Circuit Court of Appeals. A petition for review must be filed by May 12, 2003.

Dated: February 26, 2003.
Andrew Steckel,
Director, Air Division, Region 9.

[FR Doc. 03-5710 Filed 3-10-03; 8:45 am]

BILLING CODE 6560-50-M